DEPARTMENT OF DEFENSE

Office of the Secretary

Meeting of the Advisory Panel To Assess the Capabilities for Domestic Response to Terrorist Attacks Involving Weapons of Mass Destruction

ACTION: Notice of meeting.

SUMMARY: This notice sets forth the schedule and summary agenda for the next meeting of the Panel to Assess the Capabilities for Domestic Response to Terrorist Attacks Involving Weapons of Mass Destruction. Notice of this meeting is require under the Federal Advisory Committee Act, (Pub. L. 92-463). Last minute meeting arrangements were not finalized until April 4, so this announcement must be made less than 15 days before the meeting will take place. Several members of the public who had attended past meetings have already been notified of this upcoming meeting.

DATES: April 11 and 12, 2002.

ADDRESSES: U.S. House of Representatives Budget Committee Hearing Room 210 Cannon, 1st Street and Independence Ave., SE., Washington, DC 20515.

FOR FURTHER INFORMATION CONTACT: RAND provides information about this Panel on its Web site at http://www.rand.org/organization/nsrd/terrpanel; it can also be reached at (703) 413-1100 extension 5321.

SUPPLEMENTARY INFORMATION:

Proposed Schedule and Agenda

Panel to Assess the Capabilities for Domestic Response to Terrorist Attacks Involving Weapons of Mass Destruction will meet from 9 a.m. until 5:30 p.m. on April 11, 2002 and from 9 a.m. until 12:30 p.m. on April 12, 2002. Time will be allowed for public comments by individuals or organizations at the end the meeting on April 12.

Public comment presentations will be limited to two minutes each and must be provided in writing prior to the meeting. Mail written presentations and requests to register to attend the open public session to: Nancy Rizor, RAND, 1200 South Hayes Street, Arlington, VA 22202-5050.

Public seating for this meeting is limited, and is available on a first-come, first-served basis.

Dated: April 5, 2002.
Patricia L. Toppings,
OSD Federal Register Liaison Officer, Department of Defense.

[FR Doc. 02-8614 Filed 4-5-02; 3:16 pm]

BILLING CODE 5001-08-M